DEPARTMENT OF HOMELAND SECURITY

Coast Guard

33 CFR Part 117

[Docket No. USCG-2016-0963]

RIN 1625-AA09

Drawbridge Operation Regulations; Tchefuncta River, Madisonville, LA

AGENCY: Coast Guard, DHS.

ACTION: Notice of proposed rulemaking.

SUMMARY: The Coast Guard proposes to modify the operating schedule that governs the State Route 22 Bridge (Madisonville (SR22) swing span bridge) across the Tchefuncta River, mile 2.5, at Madisonville, St. Tammany Parish, Louisiana. The Louisiana Department of Transportation and Development requested changes to the present drawbridge operating regulations governing the SR 22 swing span bridge, to enhance the flow of vehicle traffic across the bridge.

DATES: Comments and related material must reach the Coast Guard on or before January 18, 2017.

ADDRESSES: You may submit comments identified by docket number USCG-2016-0963 using the Federal eRulemaking Portal at http://www.regulations.gov. See the “Public Participation and Request for Comments” portion of the SUPPLEMENTARY INFORMATION section below for instructions on submitting comments.

FOR FURTHER INFORMATION CONTACT: If you have questions on this proposed rule, call or email David Frank, Bridge Administrator, at 504-671-2128, email david.m.frank@uscg.mil.

SUPPLEMENTARY INFORMATION:

I. Table of Abbreviations

CFR Code of Federal Regulations

DHS Department of Homeland Security

FR Federal Register

NPRM Notice of proposed rulemaking

SNPRM Supplemental notice of proposed rulemaking

Pub. L. Public Law

§ Section

U.S.C. United States Code

LTOTD Louisiana Department of Transportation and Development

SR State Route

MHW Mean High Water

II. Background, Purpose and Legal Basis

Local governmental officials from St. Tammany Parish and the City of Madisonville, in conjunction with the Louisiana Department of Transportation and Development (LDOTD), requested that the operating regulation of the SR 22 Bridge, a swing span bridge, be changed in order to better accommodate the increased vehicular traffic crossing the bridge especially during the peak, weekday rush hours. Currently, this bridge is governed under 33 CFR 117.500. The current regulation was created to allow for improved vehicular traffic flow during peak rush hours due to the increased population of the western portions of St. Tammany Parish.

Based on a recent study of the current vehicle traffic crossing the bridge, public officials and LDOTD requested that the operating regulation be changed to better meet current bridge use.

The traffic study conducted by the LDOTD determined that the existing vehicular traffic at the intersection of SR 22 and SR 21/SR 1077 is over capacity at peak hours and causes unacceptable levels of delay to roadway traffic. This situation is compounded by the opening of the bridge during these peak hours. A combination of modifications to the operating schedule of the bridge and modifications to the traffic controls at this intersection will improve traffic flow and reduce traffic delays. As the largest commercial facility upstream of the bridge is no longer in service, most of the vessels that request openings are recreational powerboats and sailboats that routinely transit this waterway and should be able to adjust their schedules to coincide with the proposed drawbridge operating schedule. The SR 22 swing bridge has a vertical clearance of 6.2 feet above Mean High Water (MHW) in the closed-to-navigation position and unlimited clearance in the open-to-navigation position.

Concurrent with the publication of the Notice of Proposed Rulemaking (NPRM), a Test Deviation [USCG-2016-0963] has been issued to allow the LDOTD to test the proposed schedule and to obtain data and public comments. The test period will be in effect during the entire NPRM comment period. The Coast Guard will review the logs of the drawbridge, the traffic counts provided by LDOTD, and evaluate public comments from this NPRM and the above referenced Temporary Deviation to determine if the requested change to the permanent special drawbridge operating regulation is warranted.

III. Discussion of Proposed Rule

The rule proposes to amend 33 CFR 117.500. The proposed rule change would extend the time between openings from 30 minutes to an hour, between 6 a.m. and 7 p.m., and not require the bridge to open for the passage of vessels at 8 a.m., 5 p.m. and 6 p.m. during the weekday rush hours. This additional time would allow commuters and school buses to cross the bridge freely and prevent vehicular traffic from backing up for over a mile on SR 22. The bridge will open at any time in the case of an emergency.

Approximately 7,500 vehicles cross the bridge daily between the hours of 6 a.m. and 7 p.m. Vessel openings for the month of July indicate that the bridge opened to pass vessels 118 times during the week and 202 times during the weekend. Vessel openings for the month of August dropped to 68 openings during the week and 85 openings during the weekend.

Traffic studies have indicated a significant increase in highway traffic delays caused by bridge openings, consisting of mainly recreational traffic that presently passes through the bridge on scheduled openings, and can adjust their schedules to work with the needs of land transportation. There are no alternate routes available for vessels that wish to transit the bridge site; however, if vessels have a vertical clearance requirement of less than 6.2 feet above MHW, they may transit the bridge site at any time.

IV. Regulatory Analyses

We developed this proposed rule after considering numerous statutes and Executive Orders related to rulemaking. Below we summarize our analyses based on these statutes and Executive Orders and we discuss First Amendment rights of protestors.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This NPRM has not been designated a “significant regulatory action,” under Executive Order 12866. Accordingly, the NPRM has not been reviewed by the Office of Management and Budget.

This regulatory action determination is based on a reduction of commercial vessel traffic on this waterway, and the recreational powerboats and sailboats that routinely transit this waterway can still transit the bridge under the proposed schedule. And, those vessels with a vertical clearance requirement of less than 6.2 feet above MHW, they may transit the bridge site at any time. This regulatory action takes into account the reasonable needs of vessel and vehicular traffic.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities. While some owners or operators of vessels intending to transit the bridge may be small entities, for the reasons stated in section IV.A above, this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

C. Collection of Information

This proposed rule would call for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section above.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

F. Environment

We have analyzed this proposed rule under Department of Homeland Security Management Directive 023-01 and Commandant Instruction M16475.lD, which guides the Coast Guard in complying with the National Environmental Policy Act of 1969 (NEPA)(42 U.S.C. 4321-4370f), and have made a preliminary determination that this action is one of a category of actions which do not individually or cumulatively have a significant effect on the human environment. This proposed rule simply promulgates the operating regulations or procedures for drawbridges. Normally such actions are categorically excluded from further review, under figure 2-1, paragraph (32)(e), of the Instruction.

Under figure 2-1, paragraph (32)(e), of the Instruction, an environmental analysis checklist and a categorical exclusion determination are not required for this rule. We seek any comments or information that may lead to the discovery of a significant environmental impact from this proposed rule.

G. Protest Activities

The Coast Guard respects the First Amendment rights of protesters. Protesters are asked to contact the person listed in the FOR FURTHER INFORMATION CONTACT section to coordinate protest activities so that your message can be received without jeopardizing the safety or security of people, places or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this notice, and all public comments, are in our online docket at http://www.regulations.gov and can be viewed by following that Web site's instructions. Additionally, if you go to the online docket and sign up for email alerts, you will be notified when comments are posted or a final rule is published.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; Department of Homeland Security Delegation No. 0170.1.

2. Revise § 117.500 to read as follows:

§ 117.500 Tchefuncta River

The draw of the SR 22 Bridge, mile 2.5, at Madisonville, shall open on signal from 7 p.m. to 6 a.m. From 6 a.m. to 7 p.m., the draw need only open on the hour, except that the draw need not open for the passage of vessels at 8 a.m., 5 p.m. and 6 p.m. Monday through Friday except federal holidays. The bridge will open at any time an emergency.

Dated: October 31, 2016.
David R. Callahan,
Rear Admiral, U.S. Coast Guard, Commander, Eighth Coast Guard District.

[FR Doc. 2016-26654 Filed 11-3-16; 8:45 am]

BILLING CODE 9110-04-P